DEPARTMENT OF HEALTH AND HUMAN SERVICES

Centers for Medicare & Medicaid Services

[Document Identifier: CMS-10166]

Agency Information Collection Activities: Proposed Collection; Comment Request

AGENCY: Centers for Medicare & Medicaid Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New Collection; Title of Information Collection: Payment Error Rate Measurement in Medicaid and State Children's Health Insurance Program (SCHIP); Form No.: CMS-10166 (OMB # 0938-NEW); Use: The information collected will be used by CMS for, among other purposes, estimating improper payments in Medicaid and SCHIP as required by the Improper Payments Information Act (IPIA) of 2002. To implement the IPIA in Medicaid and SCHIP, CMS will engage a Federal contractor to produce Medicaid and SCHIP error rates. CMS plans to adopt this approach based on a recommendation made during public comment on the proposed rule entitled “Medicaid Program and State Children's Health Insurance Program (SCHIP): Payment Error Rate Measurement” which published on August 27, 2004 (69 FR 52620), that contained provisions for all states to produce error rates in Medicaid and SCHIP.

Each year, based on States' annual medical expenditures from the previous year, the Federal contractor will group all States into three equal strata of small, medium and large and select a random sample of an estimated 18 States to be reviewed for each program. The States selected for review would submit to the Federal contractor, annual expenditures, quarterly claims data, medical policies, and other information so that the contractor can determine the specific State sample sizes and conduct medical and data processing reviews on the sampled claims. In addition, the contractor will request medical records from providers whose claims were sampled; the medical records are needed to support the medical reviews. CMS is not requiring States and providers to use a specific form, e.g., facsimile, electronic to transmit the information. Based on the reviews, the contractor will calculate State-specific error rates which will serve as the basis for calculating national Medicaid and SCHIP error rates. Each State reviewed also will submit a corrective action plan to CMS that is designed to address error causes for purposes of reducing the State's error rate; Frequency: Reporting—on occasion and quarterly; Affected Public: State, local or tribal government; Number of Respondents: 36; Total Annual Responses: 5076; Total Annual Hours: 29,880.

To obtain copies of the supporting statement and any related forms for the proposed paperwork collections referenced above, access CMS” Web site address at http://www.cms.hhs.gov/regulations/pra/, or e-mail your request, including your address, phone number, OMB number, and CMS document identifier, to Paperwork@cms.hhs.gov, or call the Reports Clearance Office on (410) 786-1326.

Written comments and recommendations for the proposed information collections must be mailed within 30 days of the date of display, July 15, 2005, and must be mailed directly to the CMS Paperwork Reduction Act Reports Clearance Officer designated at the address below: CMS, Office of Strategic Operations and Regulatory Affairs, Division of Regulations Development, Attention: William N. Parham, III, Room C4-26-05, 7500 Security Boulevard, Baltimore, Maryland 21244-1850.

Dated: July 12, 2005.
Michelle Shortt,
Acting Director, Regulations Development Group, Office of Strategic Operations and Regulatory Affairs.

[FR Doc. 05-14155 Filed 7-15-05; 9:13 am]

BILLING CODE 4120-01-P